DEPARTMENT OF ENERGY

Federal Energy Regulatory Commission

[Docket No. RP95-136-018]

Williams Gas Pipelines Central, Inc.; Notice of Refund Report

December 6, 2002.

Take notice that on November 26, 2002, Williams Gas Pipelines Central, Inc. (Central) tendered for filing its interruptible excess refund report for the twelve-month period ended September 2002.

Pursuant to Article V, Section A of the November 27, 1996, Stipulation and Agreement in the above named docket, approved by order of the Commission dated March 7, 1997, Central is not required to refund any ITS revenue until Central has recovered $3.5 million of fixed costs allocated to ITS. Central only recovered $2.29 million of fixed costs; therefore, a refund is not required. Also, there will not be a refund required for ISS because there was no ISS revenue for the twelve-month period ended September 2002.

Central states that a copy of its filing was served on all of participants listed on the service list maintained by the Commission in the docket referenced above and on all of Central's jurisdictional customers and interested state commissions.

Any person desiring to protest said filing should file a protest with the Federal Energy Regulatory Commission, 888 First Street, NE., Washington, DC 20426, in accordance with Section 385.211 of the Commission's Rules and Regulations. All such protests must be filed on or before December 11, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31331 Filed 12-11-02; 8:45 am]

BILLING CODE 6717-01-P